DEPARTMENT OF COMMERCE

National Oceanic and Atmospheric Administration

[I.D. 020806D]

North Pacific Fishery Management Council; Public Meeting

AGENCY: National Marine Fisheries Service (NMFS), National Oceanic and Atmospheric Administration (NOAA), Commerce.

ACTION: Notice of a public meeting.

SUMMARY: The North Pacific Fishery Management Council's (Council) Halibut Stakeholder Committee will meet in Anchorage, AK.

DATES: The meeting will be held on February 27-28, 2006.

ADDRESSES: The meeting will be held at the Anchorage Hilton Hotel, 500 West 3rd Avenue, Birch-Willow Room, Anchorage, AK 99501.

Council address: North Pacific Fishery Management Council, 605 W. 4th Ave., Suite 306, Anchorage, AK 99501-2252.

FOR FURTHER INFORMATION CONTACT: Jane DiCosimo, Council staff, telephone: (907) 271-2809.

SUPPLEMENTARY INFORMATION: The Halibut Stakeholder Committee will develop two alternatives for the long term management of the halibut charter fishery. The alternatives would be considered by the North Pacific Council at its April 5-11, 2006 meeting. The committee will identify common principles and goals to develop a problem statement and define two alternatives for a future analysis. One alternative would be an allocation based program. Elements to be included in the plan should include, but not be limited to: (1) A percentage based allocation that would float up and down with abundance in a fashion similar to the commercial longline Total Allowable Catch (TAC); (2) Subdivision of Area 2C and 3A into smaller geographic sub-districts, including time certain establishment of local area management plans (LAMPs) and super-exclusive registration areas; (3) Management measures that will be used to enforce the allocation, including: a) the current suite of measures to reduce harvests under the Guideline Harvest Level (GHL) (i.e., one trip per vessel per day, no harvest by skipper and crew, and annual limit of 5 or 6 fish per person (for Area 2C only));(b) Measures being pursued by the State of Alaska in 2006, including: (i) a halibut reporting requirement in charter boat logbooks with methodology to ensure accuracy; (ii) a proposed regulation to the Board of Fish to prohibit retention or harvest of fish by skipper and crew members when clients are on board; and (iii) limit the number of lines fished to the number of clients; (c) Other annual bag limits; (d) Limitations on days fished (either total number of days or by excluding specific days of the week); (e) Reduced daily limits including size limitations for the second fish caught; (f) Subtraction of any allocation exceedence from the following year's allocation; (g) Federal moratorium or control date of December 9, 2006 and/or a State limited entry program with delayed transferability; (h) Mechanisms which, if the charter harvest continues to grow, would allow for an orderly and compensated allocation shift from the longline sector to the charter sector, including the use of a charter stamp, which would generate funds to pay for management of the charter fishery and to buy longline shares to be converted into the charter allocation; (i) Exploration of delegation of some management aspects of the halibut sport fishery, including the charter sector, to the State of Alaska.

A second alternative would be a modified Individual Fishing Quota (IFQ) program, including, but not be limited to: (1) The elements of the previously proposed (2001) charter IFQ program; (2) A modified IFQ program, including, but not be limited to, addressing potential legal vulnerabilities that may exist in the 2001 IFQ program. Such approaches might include a “leveling” plan, other effort based mechanisms to update 1998 and 1999 history, new history approaches, an effort based transferable seat program, or other options; (3) Subdivision of Area 2C and 3A into smaller geographic sub-districts, including time certain establishment of LAMPs; (4) The use of a moratorium or control date of December 9, 2006; and (5) Other elements to be identified by the committee.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: February 8, 2006.
Tracey L. Thompson,
Acting Director, Office of Sustainable Fisheries, National Marine Fisheries Service.

[FR Doc. E6-1994 Filed 2-13-06; 8:45 am]

BILLING CODE 3510-22-S